DEPARTMENT OF THE INTERIOR

Bureau of Land Management

[AK-962-1410-HY-P; AA-6687-A;]

Alaska Native Claims Selection

In accordance with Departmental regulation 43 CFR 2650.7(d), notice is hereby given that a decision to issue conveyance under the provisions of Sec. 14(a) of the Alaska Native Claims Settlement Act of December 18, 1971, 1613(a), will be issued to Old Harbor Native Corporation for the village of Old Harbor. The lands involved are in the vicinity of Old Harbor, Alaska.

Seward Meridian, Alaska, U.S. Survey No. 10920, Alaska

Containing 119.99 acres as shown on the plat of survey officially filed on November 25, 1992.

T. 33. S., R. 23 W.,

Sec. 5, lot 2;

Sec. 6, lot 2;

Sec. 8, lot 2;

Sec. 9, lots 1 and 2;

Sec. 10, lot 1.

Containing 1,305.04 acres as shown on the plat of survey officially filed on April 16, 1999.

T. 33 S., R. 24 W.,

Sec. 12, lots 2, 3, and 4.

Containing 172.36 acres as shown on the plat of survey officially filed on December 3, 1999.

Aggregating 1,597.39 acres.

A notice of the decision will be published once a week, for four (4) consecutive weeks, in the Kodiak Daily Mirror newspaper. Copies of the decision may be obtained by contacting the Alaska State Office of the Bureau of Land Management, 222 West Seventh Avenue, #13, Anchorage, Alaska 99513-7599 ((907) 271-5960).

Any party claiming a property interest which is adversely affected by the decision, an agency of the Federal government or regional corporation, shall have until (August 25, 2000) to file an appeal. However, parties receiving service by certified mail shall have 30 days from the date of receipt to file an appeal. Appeals must be filed in the Bureau of Land Management at the address identified above, where the requirements for filing an appeal may be obtained. Parties who do not file an appeal in accordance with the requirements of 43 CFR Part 4, Subpart E, shall be deemed to have waived their rights.

Dennis R. Benson,
Land Law Examiner, Branch of ANCSA Adjudication.

[FR Doc. 00-18860 Filed 7-25-00; 8:45 am]

BILLING CODE 4310-$$-P